DEPARTMENT OF ENERGY

Federal Energy Regulatory Commission

[Docket No. PF15-27-000]

Venture Global Plaquemines LNG, LLC; Notice of Intent To Prepare an Environmental Impact Statement for the Planned Plaquemines LNG Project, Request for Comments on Environmental Issues, and Notice of Public Scoping Meeting

The staff of the Federal Energy Regulatory Commission (FERC or Commission) will prepare an environmental impact statement (EIS) that will discuss the environmental impacts of the Plaquemines LNG Project involving construction and operation of facilities by Venture Global Plaquemines LNG, LLC (Plaquemines LNG) in Plaquemines Parish and Jefferson Parish, Louisiana. The Commission will use this EIS in its decision-making process to determine whether the project is in the public interest.

This notice announces the opening of the scoping process the Commission will use to gather input from the public and interested agencies on the project. You can make a difference by providing us ¹ with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC on or before November 4, 2015.

¹ “We,” “us,” and “our” refer to the environmental staff of the Commission's Office of Energy Projects.

If you sent comments on this project to the Commission before the opening of this docket on July 2, 2015, you will need to file those comments in Docket No. PF15-27-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-27-000) with your submission: Kimberly D. Bose, Secretary, Federal Energy Regulatory Commission, 888 First Street NE., Room 1A, Washington, DC 20426.

(4) In lieu of sending written or electronic comments, the Commission invites you to attend the public scoping meeting its staff will conduct in the project area, scheduled as follows: FERC Public Scoping Meeting, Plaquemines LNG Project, October 21, 2015 at 6:00 p.m., Belle Chasse Auditorium, 8398 Highway 23, Belle Chasse, LA 70037.

We will begin our sign-up of speakers at 5:30 p.m. The scoping meeting will begin at 6:00 p.m. with a description of our environmental review process by Commission staff, after which speakers will be called. The meeting will end once all speakers have provided their comments or at 9:00 p.m., whichever comes first. Please note that there may be a time limit of three minutes to present comments, and speakers should structure their comments accordingly. If time limits are implemented, they will be strictly enforced to ensure that as many individuals as possible are given an opportunity to comment. The meetings will be recorded by a stenographer to ensure comments are accurately recorded. Transcripts will be entered into the formal record of the Commission proceeding.

Plaquemines LNG representatives will be present one hour prior to the start of the scoping meeting to provide additional information about the project and to answer questions.

Please note this is not your only public input opportunity; please refer to the review process flow chart in appendix 1.²

² The appendices referenced in this notice will not appear in the Federal Register. Copies of the appendices were sent to all those receiving this notice in the mail and are available at www.ferc.gov using the link called “eLibrary” or from the Commission's Public Reference Room, 888 First Street NE., Washington, DC 20426, or by calling (202) 502-8371. For instructions on connecting to eLibrary, refer to the last page of this notice.

Summary of the Planned Project

Plaquemines LNG plans to construct and operate natural gas liquefaction and export facilities at a planned liquefied natural gas (LNG) terminal on the west bank of the Mississippi River in Plaquemines Parish, Louisiana (Terminal) and construct and operated associated lateral pipelines in Plaquemines and Jefferson parishes that would connect the Terminal to the existing interstate U.S. natural gas grid. The Plaquemines LNG Project would provide total liquefaction nameplate capacity of about 978 billion cubic feet per year (Bcf/yr) of natural gas. According to Plaquemines LNG, the project would provide a cost-effective outlet for new domestic natural gas available for the market.

The Plaquemines LNG Project would be constructed in two phases and would consist of the following facilities:

A liquefaction plant consisting of ten liquefaction blocks in Phase 1 and ten liquefaction blocks in Phase 2, with each block having a nameplate capacity of 1.0 million tonnes per annum (with higher capacity during peak conditions);

Four 200,000-cubic-meter (m³) LNG aboveground storage tanks;

Three marine loading berths capable of receiving ocean-going LNG carriers of between 120,000 m³ and 210,000 m³ capacity;

One temporary floating LNG storage vessel;

One utility dock on the Mississippi River;

A combined cycle gas turbine power plant with a generating capacity for Phase 1 of approximately 720 megawatts (MW), which would be expanded in Phase 2 to include an additional 720 MW of generating capacity;

The Southeast Lateral Pipeline, consisting of about 12.1 miles of 42-inch-diameter pipeline in Plaquemines Parish, with a gas supply capability of 0.85 billion cubic feet per day (Bcf/d) for Phase 1;

The Southwest Lateral Pipeline, consisting of about 11.1 miles of 42-inch-diameter pipeline in Plaquemines Parish, with a gas supply capability of 0.85 Bcf/d for Phase 1;

The Northwest Lateral Pipeline, consisting of about 21.2 miles of 42-inch-diameter pipeline in Jefferson Parish, with a gas supply capability of 1.7 Bcf/d for Phase 2;

Four meter stations, each with a pig ³ launcher and pressure regulating valve;

³ A “pig” is a tool that the pipeline company inserts into and pushes through the pipeline for cleaning the pipeline, conducting internal inspections, or other purposes.

A gas gate station located at the Terminal, with pig receivers, filter/separators, custody transfer meters, pressure regulators, emergency shutdown valves, and gas analyzers; and

Mainline valves (MLV).

The general location of the project facilities is shown in appendix 2.⁴

⁴ The appendices referenced in this notice will not appear in the Federal Register. Copies of the appendices were sent to all those receiving this notice in the mail and are available at www.ferc.gov using the link called “eLibrary” or from the Commission's Public Reference Room, 888 First Street NE., Washington, DC 20426, or by calling (202) 502-8371. For instructions on connecting to eLibrary, refer to the last page of this notice.

Land Requirements for Construction

Construction of the planned facilities would disturb about 1,233.2 acres of land for the aboveground facilities and the pipeline. Following construction, Plaquemines LNG would maintain about 910.3 acres for permanent operation of the project's facilities; the remaining acreage would be restored and revert to former uses.

The Terminal would include a construction workspace area of 632.6 acres, all of which would be maintained and used during operations. The three lateral pipelines and associated facilities, including access roads, and contractor yards/staging areas are still in the design stages; however, the temporary construction workspace would include about 600.6 acres, and about 277.7 acres would be maintained during operation.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS, we will discuss impacts that could occur as a result of the construction and operation of the planned project under these general headings:

Geology and soils;

Land use;

Water resources, fisheries, and wetlands;

Cultural resources;

Vegetation and wildlife including migratory birds;

Air quality and noise;

Endangered and threatened species;

Public safety;

Socioeconomics; and

Cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to the environmental issues related to this project to formally cooperate with us in the preparation of the EIS.⁵ Agencies that would like to request cooperating agency status should follow the instructions for filing comments provided under the Public Participation section of this notice.

⁵ The Council on Environmental Quality regulations addressing cooperating agency responsibilities can be found at Title 40, Code of Federal Regulations, Part 1501.6.

Consultations Under Section 106 of the National Historic Preservation Act

In accordance with the Advisory Council on Historic Preservation's implementing regulations for section 106 of the National Historic Preservation Act, we are using this notice to initiate consultation with the Louisiana State Historic Preservation Office (SHPO), and to solicit their views and those of other government agencies, interested Indian tribes, and the public on the project's potential effects on historic properties.⁶ We will define the project-specific Area of Potential Effects (APE) in consultation with the SHPO as the project develops. On natural gas facility projects, the APE, at a minimum, encompasses all areas subject to ground disturbance (examples include construction right-of-way, contractor/pipe storage yards, compressor stations, and access roads). Our EIS for this project will document our findings on the impacts on historic properties and summarize the status of consultations under section 106.

⁶ The Advisory Council on Historic Preservation regulations can be found at Title 36, Code of Federal Regulations, Part 800. These regulations define historic properties as any prehistoric or historic district, site, building, structure, or object included in or eligible for inclusion in the National Register of Historic Places.

Currently Identified Environmental Issues

We have already identified several issues that we think deserve attention based on a preliminary review of the planned facilities and the environmental information provided by Plaquemines LNG. This preliminary list of issues may change based on your comments and our analysis.

Threatened and endangered species;

Fish, wildlife, and vegetation;

Land use and aesthetics;

Socioeconomics;

Marine traffic;

Public safety and reliability: the LNG pipelines would cross State Highway 23, or State Highway 23 would need to be relocated;

Air quality and noise;

Water use and quality; and

Cumulative impacts.

Environmental Mailing List

The environmental mailing list includes: federal, state, and local government representatives and agencies; elected officials; environmental and public interest groups; Native American tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in, and/or potentially affected by, the planned project.

Copies of the completed draft EIS will be sent to the environmental mailing list for public review and comment. If you would prefer to receive a paper copy of the document instead of the CD version or would like to remove your name from the mailing list, please return the attached Information Request (appendix 3).

Becoming an Intervenor

Once Plaquemines LNG files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-27-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: October 5, 2015.
Kimberly D. Bose,
Secretary.

[FR Doc. 2015-26075 Filed 10-13-15; 8:45 am]

BILLING CODE 6717-01-P